DEPARTMENT OF TRANSPORTATION

Surface Transportation Board

[STB Docket No. MC-F-20972]

Laidlaw Inc., et al.—Control and Merger—918897 Ontario Inc., B. R. Babcock Limited, Babcock Coach Lines Limited, Lee Line Corp., and Lee Charter Services, Inc.

AGENCY: Surface Transportation Board Department of Transportation.

ACTION: Postponement of effective date and establishment of new filing dates.

SUMMARY: In a notice served and published in the Federal Register on July 13, 2000 (65 FR 43395), the Surface Transportation Board (Board) tentatively approved, inter alia, an application filed under 49 U.S.C. 14303 by Laidlaw Inc. (Laidlaw), a noncarrier, to acquire indirect control, through two subsidiaries, Laidlaw Transit Ltd., and Laidlaw Transit, Inc., of a noncarrier and several motor passenger carriers. Comments concerning the application were due to be filed by August 28, 2000, and if no opposing comments were received, the notice would become the final Board action and approval of the application would be effective on that date. Based on information in the application, the Board tentatively found the proposed transaction to be in the public interest. In Laidlaw Inc., and Laidlaw Transit Acquisition Corp.—Merger—Greyhound Lines, Inc., STB Docket No. MC-F-20940 (STB served Aug. 18, 2000), however, the Board has requested additional information from Laidlaw and Greyhound Lines, Inc. (Greyhound), because Greyhound, in a recent filing with the Securities and Exchange Commission, indicated that Laidlaw is having financial problems and is curtailing funding to Greyhound. Greyhound indicated that if it does not find additional funding from other sources, it “may not be able to continue to operate as a going concern.” In view of this significant new development, the Board's tentative finding that the proposed transaction is in the public interest may no longer be appropriate. Accordingly, the effective date in this proceeding is being postponed pending further action by the Board. Interested persons and applicants may file comments under the schedule set out in this decision.

DATES: Comments may be filed by September 11, 2000. Applicants may file a reply to comments by September 25, 2000. Regardless of whether comments are filed, the effective date of this proceeding is postponed pending further order of the Board.

ADDRESSES: Send an original and 10 copies of any comments referring to STB Docket No. MC-F-20972 to: Surface Transportation Board, Office of the Secretary, Case Control Unit, 1925 K Street, N.W., Washington, DC 20423-0001. In addition, send one copy of comments to applicants' representative: Fritz R. Kahn, 1920 N Street (8th Floor), N.W., Washington, DC 20036-1601.

FOR FURTHER INFORMATION CONTACT: Joseph H. Dettmar, (202) 565-1600. [TDD for the hearing impaired: 1-800-877-8339.]

This decision will not significantly affect the quality of the human environment or the conservation of energy resources.

It is ordered:

1. The effective date of the Board's prior decision in this proceeding is postponed pending further order of the Board.

2. Comments and replies are now due by September 11, 2000, and September 25, 2000, respectively. Regardless of whether comments are filed, the prior decision will not become effective pending further order of the Board.

3. This decision will be effective on August 18, 2000.

4. A copy of this notice will be served on: (1) The U.S. Department of Transportation, Federal Motor Carrier Safety Administration—HMCE-20, 400 Virginia Avenue, S.W., Suite 600, Washington, DC 20024; (2) the U.S. Department of Justice, Antitrust Division, 10th Street & Pennsylvania Avenue, N.W., Washington, DC 20530; and (3) the U.S. Department of Transportation, Office of the General Counsel, 400 7th Street, S.W., Washington, DC 20590.

Decided: August 18, 2000.
By the Board, Vernon A. Williams, Secretary.
Vernon A. Williams,
Secretary.

[FR Doc. 00-21676 Filed 8-23-00; 8:45 am]

BILLING CODE 4915-00-P